DEPARTMENT OF THE TREASURY

Internal Revenue Service

26 CFR Part 1

[REG-109822-15]

RIN 1545-BM70

Country-by-Country Reporting; Correction

AGENCY: Internal Revenue Service (IRS), Treasury.

ACTION: Correction to notice of proposed rulemaking.

SUMMARY: This document contains corrections to a notice of proposed rulemaking (REG-109822-15) that was published in the Federal Register on Wednesday, December 23, 2015 (80 FR 79795). The proposed regulations would require annual country-by-country reporting by United States persons that are the ultimate parent entity of a multinational enterprise group.

DATES: Written or electronic comments and request for a public hearing for the notice of proposed rulemaking at 80 FR 79795, December 23, 2015, are still being accepted and must be received by March 22, 2016.

ADDRESSES: Send submissions to CC:PA:LPD:PR (REG-109822-15), Room 5203, Internal Revenue Service, PO Box 7604, Ben Franklin Station, Washington, DC 20044. Submissions may be hand delivered Monday through Friday between the hours of 8 a.m. and 4 p.m. to CC:PA:LPD:PR (REG-109822-15), Courier's desk, Internal Revenue Service, 1111 Constitution Avenue NW., Washington, DC 20224, or sent electronically, via the Federal eRulemaking Portal at www.regulations.gov (IRS REG-109822-15).

FOR FURTHER INFORMATION CONTACT: Melinda E. Harvey, at (202) 317-6934 (not a toll-free number).

SUPPLEMENTARY INFORMATION:

Background

The notice of proposed rulemaking that is the subject of this document is under sections 6001, 6011, 6012, 6031, and 6038 of the Internal Revenue Code.

Need for Correction

As published, the notice of proposed rulemaking (REG-109822-15) contains errors that are misleading and are in need of clarification.

Correction

Accordingly, the notice of proposed rulemaking that is the subject of FR Doc. 2015-32145, beginning on page 79795 of the issue of December 23, 2015, is corrected as follows:

1. On page 79797, in the first column, under the paragraph heading “1. U.S. Persons Required To File Form XXXX, Country-by-Country Report,” in the second sentence the phrase “§ 1.6038-4(j) provides an exception” is corrected to read “§ 1.6038-4(h) provides an exception”.

§ 1.6038-4 [Corrected]

2. On page 79801, second column, in the second line of § 1.6038-4(a), the phrase “provided in paragraph (j) of this section” is corrected to read “provided in paragraph (h) of this section”.

Martin V. Franks,
Chief, Publications and Regulations Branch, Legal Processing Division, Associate Chief Counsel, (Procedure and Administration).

[FR Doc. 2016-03906 Filed 2-23-16; 8:45 am]

BILLING CODE 4830-01-P